DEPARTMENT OF AGRICULTURE

Submission for OMB Review; Comment Request

June 27, 2007.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Identification System; Information Requirements for Species Data by State.

OMB Control Number: 0579-NEW.

Summary of Collection: The U.S. Department of Agriculture initiated implementation of the National Animal Identification System (NAIS) in 2004. The NAIS is a cooperative State-Federal-industry program administered by USDA's Animal and Plant Health Inspection Service (APHIS). The purpose of the NAIS is to provide a streamlined information system that will help producers and animal health officials respond quickly and effectively to animal disease events in the United States. Premises registration continues to advance, as does the interest in the NAIS from industry, legislators, etc. Veterinary Service (VS) needs assistance from each State to provide “species at the premises” statistics, since this information is stored at the State-level only, rather than in the National Information Records Repository. For States who wish to gather this information themselves, VS is asking that those States include this information in the quarterly cooperative agreement progress reports submitted to the Eastern and Western Regions. VS is providing a spreadsheet that the Regions can use to keep track of premises registered by species and use as a tool for submission of data.

Need and Use of the Information: VS will use the information provided on the report form to track progress being made as participation in the program increases. The information will also be used on a quarterly basis to help ascertain progress being made by species and the species organizations working with APHIS to increase participation. This information will help staff determine if additional efforts need to be made with particular species groups that are not participating at desired levels. Without this premises registration component, an effective NAIS would be impossible, and without this national system, animal disease outbreaks will be more difficult to trace and contain.

Description of Respondents: State, Local or Tribal Government.

Number of Respondents: 15.

Frequency of Responses: Reporting: Quarterly.

Total Burden Hours: 64.

Animal and Plant Health Inspection Service

Title: National Animal Identification System; Information Requirements for Tribal Participants in Premises Registration.

OMB Control Number: 0579-NEW.

Summary of Collection: The U.S. Department of Agriculture initiated implementation of the National Animal Identification System (NAIS) in 2004. The NAIS is a cooperative State-Federal-industry program administered by USDA's Animal and Plant Health Inspection Service (APHIS). The purpose of the NAIS is to provide a streamlined information system that will help producers and animal health officials respond quickly and effectively to animal disease events in the United States. Meeting the needs of Native Americans has been a priority for USDA since the inception of the NAIS, and APHIS has sought to have Tribal representatives involved in the development of the system. APHIS is now providing the opportunity for participating Tribes to designate which premises registration system they prefer to use. APHIS will make a form available to interested Tribes.

Need and Use of the Information: APHIS will use the information provided on VS Form 1-63 to initiate the process for getting the interested Tribal entity or organization set up to use the premises registration system of their choice. Without this premises registration component, an effective NAIS would be impossible, and without this national system, animal disease outbreaks will be more difficult to trace and contain.

Description of Respondents: State, Local or Tribal Government.

Number of Respondents: 60.

Frequency of Responses: Reporting: On occasion.

Total Burden Hours: 90.

Ruth Brown,
Departmental Information Collection Clearance Officer.

[FR Doc. E7-12737 Filed 6-29-07; 8:45 am]

BILLING CODE 3410-34-P